DEPARTMENT OF ENERGY

Federal Energy Regulatory Commission

[Docket No. CP06-365-000; Docket No. CP06-366-000]

Bradwood Landing, LLC; NorthernStar Energy, LLC; Notice of Availability of the Final Environmental Impact Statement for the Proposed Bradwood Landing LNG Project

June 6, 2008.

The staff of the Federal Energy Regulatory Commission (FERC or Commission) has prepared this final Environmental Impact Statement (EIS) for the construction and operation of the liquefied natural gas (LNG) import terminal proposed by Bradwood Landing, LLC, and the associated natural gas sendout pipeline proposed by NorthernStar Energy, LLC (collectively referred to hereafter as NorthernStar) in the above-referenced dockets. The Bradwood Landing LNG Project facilities would be located in Clatsop and Columbia Counties, Oregon, and Cowlitz County, Washington.

The final EIS was prepared to satisfy the requirements of the National Environmental Policy Act (NEPA). The U.S. Department of Homeland Security Coast Guard, U.S. Army Corps of Engineers (COE), and the U.S. Department of Transportation are cooperating agencies for the development of the EIS. A cooperating agency has jurisdiction by law or special expertise with respect to potential environmental impacts associated with the proposal and is involved in the NEPA analysis.

Based on the analysis included in the EIS, the FERC staff concludes that if the Project is constructed and operated in accordance with applicable laws and regulations, and the project sponsor's proposed mitigation, and the staff's additional mitigation recommendations, it would have mostly limited adverse environmental impacts and would be an environmentally acceptable action.

The Bradwood Landing LNG Project would include the construction and operation of an LNG import terminal about 38 miles up the Columbia River from its mouth, at the location of the former lumber mill and town of Bradwood, in Clatsop County, Oregon. Elements of the LNG terminal include:

• A dredged maneuvering area in the Columbia River adjacent to the existing navigation channel maintained by the COE;

• A single berth capable of handling LNG carriers ranging in capacity from 100,000 to 200,000 cubic meters (m³);

• A set of four 16-inch-diameter unloading arms on the wharf, and a 1,240-foot-long cryogenic transfer pipeline from the wharf to the LNG storage tanks;

• Two full-containment LNG storage tanks, each with a capacity of 160,000 m³; and

• A set of seven submerged combustion vaporizers to re-gasify LNG to natural gas, with a capacity to send out 1.3 billion cubic feet of natural gas per day.

The EIS also addresses the potential environmental effects of the construction and operation of the associated natural gas sendout pipeline between the Bradwood Landing LNG terminal and an interconnection with the existing Williams Northwest Pipeline Corporation (Williams Northwest) interstate system near Kelso, Washington. The pipeline facilities would include:

• A 36.3-mile-long, underground, high-pressure welded steel pipeline, consisting of 18.9 miles of 36-inch-diameter pipeline in Clatsop and Columbia Counties, Oregon, and 17.4 miles of 30-inch-diameter pipeline in Cowlitz County, Washington;

• Five meter stations, including one at the LNG terminal, at the Georgia-Pacific Wauna paper mill delivery point, the interconnection with the existing Northwest Natural Gas Company intrastate system, the Portland General Electric Company Beaver power plant delivery point, and the Williams Northwest interconnection; and

• At least five mainline block valves, two pig ¹ launchers, and two pig receivers.

¹ A “pig” is a tool used inside of a pipeline to clean or inspect it.

The final EIS has been placed in the public files of the FERC and is available for distribution and public inspection at: Federal Energy Regulatory Commission, Public Reference Room, 888 First Street, NE., Room 2A, Washington, DC 20426, (202) 502-8371.

Copies of the final EIS have been mailed to federal, state, and local agencies, public interest groups, individuals who have requested the final EIS, or provided comments; libraries and newspapers in the Project area; and parties to this proceeding. Hard copies of volume 1 (narrative text) of this EIS were mailed to those specifically requesting them, and all others received a compact disk (CD) that can be read from a personal computer with a CD-ROM drive. Volume 2, consisting of appendices, was only produced on CD. A limited number of hard copies and CDs are available from the Public Reference Room identified above.

Additional information about the Project is available from the Commission's Office of External Affairs, at 1-866-208-FERC (3372). The administrative public record for this proceeding is available through the FERC's Internet Web site (http://www.ferc.gov). Using the “Documents and Filings” tab, click on the “eLibrary link,” and select “General Search.” Enter the project docket number excluding the last three digits (i.e., CP06-365) in the “Docket Number” field. Be sure you have selected an appropriate date range. For assistance, please contact FERC Online Support at FERCOnlineSupport@ferc.gov or toll free at 1-866-208-3676, or for TTY, contact (202) 502-8659. The eLibrary link on the FERC's Internet Web site also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. To register for this service, go to the eSubscription link on the FERC Web site (http://www.ferc.gov/docs-filing/esubscription.asp).

Kimberly D. Bose,
Secretary.

[FR Doc. E8-13419 Filed 6-13-08; 8:45 am]

BILLING CODE 6717-01-P